DEPARTMENT OF DEFENSE

Defense Acquisition Regulations System

48 CFR Parts 225 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial change.

DATES: Effective January 22, 2014.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS as follows:

1. Revise 225.1101 to correct thee-CFR.

2. Revise 252.225-7000 and -7001 to correct the e-CFR.

3. Revise 252.225-7018 to correct typographical error.

4. Revise 252.225-7021 to correct the e-CFR.

List of Subjects in 48 CFR Parts 225 and 252

Government procurement.

Manuel Quinones,
Editor, Defense Acquisition Regulations System.

Therefore, 48 CFR parts 225 and 252 are amended as follows:

1. The authority citation for 48 CFR parts 225 and 252 continues to read as follows:

Authority: 41 U.S.C. 1303 and 48 CFR chapter 1.

PART 225—FOREIGN ACQUISITION

225.1101 [Amended]

2. Section 225.1101, paragraphs 10(i)(A) and 10(i)(B), are amended by—

a. In paragraph (10)(i)(A), by removing “$100,000” and adding “$79,507, except if the acquisition is of end products in support of operations in Afghanistan, use with its Alternate II” in its place.

b. In paragraph (10)(i)(B), by removing “$79,507” and adding “$79,507, except if the acquisition is of end products in support of operations in Afghanistan, use with its Alternate III” in its place.

PART 252—SOLICITATION PROVISIONS AND CONTRACT CLAUSES

3. Section 252.225-7000 is amended by—

a. Revising the section heading to read as set forth below;

b. Removing the date “(JUN 2012)” and adding “(JAN 2014)” in its place; and

c. In paragraph (a), removing the word “Act”.

252.225-7000 Buy American—Balance of Payments Program Certificate.

* * * * *

4. Section 252.225-7001 is amended by—

a. Revising the section heading to read as set forth below;

b. In Alternate I, removing “(OCT 2011)” and adding “(JAN 2014)” in its place.

c. In paragraph (c) of Alternate I, removing “Buy American Act Balance of Payments” and adding “Buy American—Balance of Payments” in its place.

252.225-7001 Buy American and Balance of Payments Program.

* * * * *

252.225-7018 [Amended]

5. Section 252.225-7018, paragraphs (d)(4)(ii) and (d)(5)(ii), are amended by removing “(c)(4)(i)” and adding “(d)(4)(i)” in its place.

252.225-7021 [Amended]

6. Section 252.225-7021 is amended by—

a. In Alternate II, removing the clause date “(DEC 2010)” and adding “(OCT 2011)” in its place.

b. In paragraph (a) of Alternate II, removing “(a)(14)” and adding “(a)” in its place, and removing the number “(15)” preceding the definition of “South Caucasus/Central and South Asian (SC/CASA) state end product”.

[FR Doc. 2014-01050 Filed 1-21-14; 8:45 am]

BILLING CODE 5001-06-P